DEPARTMENT OF THE INTERIOR

National Park Service

[N6678; NPS-WASO-NAGPRA-NPS0041419; PPWOCRADN0-PCU00RP14.R50000]

Notice of Intended Repatriation: Los Rios Community College District, Sacramento, CA

AGENCY: National Park Service, Interior.

ACTION: Notice.

SUMMARY: In accordance with the Native American Graves Protection and Repatriation Act (NAGPRA), the Los Rios Community College District (LRCCD) intends to repatriate a certain cultural item that meets the definition of an unassociated funerary object and that has a cultural affiliation with the Indian Tribes or Native Hawaiian organizations in this notice.

DATES: Repatriation of the cultural item in this notice may occur on or after January 16, 2026.

ADDRESSES: Send additional, written requests for repatriation of the cultural items in this notice to Jamey Nye, Los Rios Community College District, 1919 Spanos Ct., Arden-Arcade, CA 95825, email nagpra@losrios.edu.

SUPPLEMENTARY INFORMATION: This notice is published as part of the National Park Service's administrative responsibilities under NAGPRA. The determinations in this notice are the sole responsibility of LRCCD, and additional information on the determinations in this notice, including the results of consultation, can be found in the summary or related records. The National Park Service is not responsible for the determinations in this notice.

Abstract of Information Available

A total of one cultural item has been requested for repatriation. The one unassociated funerary object is a perforated dog tooth removed from Windmiller Mound (CA-SAC-107), Sacramento County, CA. The cultural item was likely removed during excavations at the site by William Purves, Jeremiah B. Lillard, and Sacramento Junior College in 1936. Between 1923 and 1940, Lillard was president of the Sacramento Junior College, now named Sacramento City College, which is one of four campuses in LRCCD. In April 2023, the item was located on the American River College campus, another campus within LRCCD.

Determinations

LRCCD has determined that:

• The one unassociated funerary object described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural item described in this notice and the Ione Band of Miwok Indians of California and the Wilton Rancheria, California.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 16, 2026. If competing requests for repatriation are received, LRCCD must determine the most appropriate requestor prior to repatriation. Requests for joint repatriation of the cultural item are considered a single request and not competing requests. LRCCD is responsible for sending a copy of this notice to the Indian Tribes and Native Hawaiian organizations identified in this notice and to any other consulting parties.

Authority: Native American Graves Protection and Repatriation Act, 25 U.S.C. 3004 and the implementing regulations, 43 CFR 10.9.

Dated: November 24, 2025
Melanie O'Brien,
Manager, National NAGPRA Program.

[FR Doc. 2025-23030 Filed 12-16-25; 8:45 am]

BILLING CODE 4312-52-P